DEPARTMENT OF TRANSPORTATION

Federal Aviation Administration

14 CFR Parts 65, 119, 121, 135, and 142

[Docket No. FAA-2008-0677; Notice No. 08-07]

RIN 2120-AJ00

Qualification, Service, and Use of Crewmembers and Aircraft Dispatchers; Extension of Comment Period

AGENCY: Federal Aviation Administration (FAA), DOT.

ACTION: Notice of proposed rulemaking (NPRM); extension of comment period.

SUMMARY: This action extends the comment period for an NPRM that was published on January 12, 2009. In that document, the FAA proposed to revise the regulations for crewmember and aircraft dispatcher training programs in domestic, flag, and supplemental operations. This extension is a result of a request from the Air Transport Association of America, Inc., Air Carrier Association of America, Regional Airline Association, and National Air Carrier Association on behalf of their members, and Airbus Americas, Inc. to extend the comment period to the proposal.

DATES: The comment period for the NPRM published on January 12, 2009 (74 FR 1280) was scheduled to close on May 12, 2009, and is extended until August 10, 2009.

ADDRESSES: You may send comments identified by Docket Number FAA-2008-0677 using any of the following methods:

• Federal eRulemaking Portal: Go to http://www.regulations.gov and follow the instructions for sending your comments electronically.

• Mail: Send comments to Docket Operations, M-30, U.S. Department of Transportation, 1200 New Jersey Avenue, SE., West Building Ground Floor, Room W12-140, Washington, DC 20590.

• Fax: Fax comments to Docket Operations at 202-493-2251.

• Hand Delivery: Bring comments to Docket Operations in Room W12-140 of the West Building Ground Floor at 1200 New Jersey Avenue, SE., Washington, DC, between 9 a.m. and 5 p.m., Monday through Friday, except Federal holidays.

For more information on the rulemaking process, see the SUPPLEMENTARY INFORMATION section of this document.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time or to Docket Operations in Room W12-140 of the West Building Ground Floor at 1200 New Jersey Avenue, SE., Washington, DC, between 9 a.m. and 5 p.m., Monday through Friday, except Federal holidays.

FOR FURTHER INFORMATION CONTACT: Ed Cook for flight crewmember information, Edward.D.Cook@faa.gov; Nancy Lauck Claussen for flight attendant information, Nancy.L.Claussen@faa.gov; and Dave Maloy for aircraft dispatcher information, David.Maloy@faa.gov, Flight Standards Service (AFS-200), Federal Aviation Administration, 800 Independence Ave., SW., Washington, DC 20591, telephone 202-267-8166. For legal questions, contact Anne Bechdolt, Office of Chief Counsel (AGC-200), Federal Aviation Administration, 800 Independence Avenue, SW., Washington, DC 20591; telephone 202-267-7230; e-mail: Anne.Bechdolt@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Availability of Rulemaking Documents

You can get an electronic copy using the Internet by:

(1) Searching the Federal eRulemaking Portal at http://www.regulations.gov;

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Background

On January 12, 2009, the Federal Aviation Administration (FAA) issued Notice No. 08-07, Qualification, Service, and Use of Crewmembers and Aircraft Dispatchers (74 FR 1280). Comments to that document were to be received on or before May 12, 2009.

By letter dated April 3, 2009, the Air Transport Association of America, Inc., Air Carrier Association of America, Regional Airline Association, and National Air Carrier Association on behalf of their members, and Airbus Americas, Inc. requested that the FAA extend the comment period for Notice No. 08-07 for 180 days. They requested the extension so the public has sufficient time to review and comment on the extensive and complex proposed rule.

While the FAA concurs with the petitioners' requests for an extension of the comment period on Notice No. 08-07, the FAA believes that a 180-day extension would be excessive. As Notice No. 08-07 is lengthy, the FAA provided a 120-day comment period. Although the FAA agrees that additional time for comments may be needed, this need must be balanced against the need to proceed expeditiously with an important rulemaking. The FAA believes an additional 90 days would be adequate for these petitioners to provide meaningful comment to Notice No. 08-07. The FAA does not anticipate any further extension of the comment period for this rulemaking.

Extension of Comment Period

In accordance with section 11.47(c) of title 14, Code of Federal Regulations, the FAA has reviewed the petition made by the Air Transport Association of America, Inc., Air Carrier Association of America, Regional Airline Association, and the National Air Carrier Association on behalf of their members, and Airbus Americas, Inc. for extension of the comment period to Notice No. 08-07. These petitioners have shown a substantive interest in the proposed rule and good cause for the extension. The FAA has determined that extension of the comment period is consistent with the public interest, and that good cause exists for taking this action.

Accordingly, the comment period for Notice No. 08-07 is extended until August 10, 2009.

Issued in Washington, DC, on April 15, 2009.
Pamela Hamilton-Powell,
Director, Office of Rulemaking.

[FR Doc. E9-8968 Filed 4-17-09; 8:45 am]

BILLING CODE 4910-13-P